NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 20, 2000. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301)713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too, includes information about the records. Further information about the disposition process is available on request.

Schedules Pending

1. Department of Justice, United States Attorneys Offices (N1-118-99-1, 12 items, 12 temporary items). Automated case management and collections systems records. Systems are used to track and maintain information on pending workloads and generate reports and correspondence. Included are such records as input documents, master files, outputs, systems documentation, and electronic copies of documents created using electronic mail and word processing. Annual compilations of case data accumulated by the Executive Office for United States Attorneys are proposed for permanent retention in Disposition Job N1-60-99-1 (see below).

2. Department of Justice, Executive Office for United States Attorneys (N1-60-99-1, 17 items, 14 temporary items). Automated case management and collections systems records. Systems are used for statistical analysis and to generate reports and correspondence. Included are such records as input data forwarded from United States Attorneys Offices, master files, monthly and quarterly reports, systems documentation, and electronic copies of records created using electronic mail and word processing. Proposed for permanent retention are such records as a subset, in electronic form, of annual national aggregate case data, with related systems documentation, and annual statistical reports.

3. Department of Commerce, Bureau of the Census (N1-29-00-2, 62 items, 44 temporary items). Comprehensive schedule pertaining to all textual and electronic records of the 2000 Decennial Census, except the paper questionnaire forms and Individual Census Record File which are proposed for disposition in Disposition Job No. N1-29-00-1. The schedule covers six major processes of the decennial census: Address list development, data collection, data capture, data processing, accuracy and coverage evaluations, and final Decennial Census data products. Also included are related program and administrative records such as publications and reports, Census pre-test and Dress Rehearsal questionnaires and related records, and contracts and related records. Records proposed for disposal include address lists and map update records, block canvassing, special place and group quarters inventories, local updates to census address lists, new construction lists, updates or revisions to census maps in electronic format, update/leave questionnaires, urban update/leave questionnaires, list enumeration and address registers, updates and revisions to the Master Address File, questionnaires, maps, and address registers created for special enumerations, respondent data collected by telephone assistance and through the Internet response program, operations and control records, electronic images of scanned paper questionnaires and forms, unprocessed electronic source files of information captured from the electronic images, the Decennial Response File, the Census Unedited File, the Census Unedited File Sample, the Census Edited File, the Census Edited File Sample, the Accuracy and Coverage Evaluation (ACE) address lists, ACE telephone interview records, personal interview records and maps, dual system estimates, ACE support and management records, Census 2000 contracts and related records, census pretest and Dress Rehearsal records, and records created using electronic mail and word processing applications. Records proposed for permanent retention include the final Census 2000 electronic map files, the final electronic Decennial Master Address File and documentation, the Census 2000 Detail File, the Hundred Percent Estimated Detail File, the Sample Estimated Detail File, the State Populations Totals File, the Redistricting Data File, the Block-Level Data File, the statistically corrected and uncorrected Hundred Percent Data Summary Files, the Sample Data Summary File, the Public Use Microdata Sample Files, the statistically corrected and uncorrected Congressional District Data Summary Files, all other final data products created for island areas or other special demographic or geographic enumerations, Decennial Census publications and reports, and Dress Rehearsal publications and reports.

Dated: March 2, 2000.
Geraldine Phillips,
Acting Assistant Archivist for Record Services—Washington, DC.

[FR Doc. 00-5450 Filed 3-3-00; 8:45 am]

BILLING CODE 7515-01-P